POSTAL RATE COMMISSION

Sunshine Act Meeting Notice

AGENCY: Postal Rate Commission.

TIME AND DATE: Daily, or as needed, starting at 9:30 a.m., from March 11, 2002 through March 24, 2002.

PLACE: Commission conference room, 1333 H Street, NW., suite 300, Washington, DC 20268-0001.

STATUS: Closed.

MATTERS TO BE CONSIDERED: Recommendations in docket no. R2001-1.

CONTACT PERSON FOR MORE INFORMATION: Stephen L. Sharfman, general counsel, Postal Rate Commission, suite 300, 1333 H Street, NW., Washington, DC 20268-0001, 202-789-6820.

Steven W. Williams,
Secretary.

[FR Doc. 02-5080 Filed 2-27-02; 1:49 pm]

BILLING CODE 7710-FW-M